ENVIRONMENTAL PROTECTION AGENCY

[FRL-9213-3]

Agency Information Collection Activities; Proposed Collection; Comment Request for Production Outlook Reports for Un-Registered Renewable Fuel Producers; EPA ICR No. 2409.01

AGENCY: Environmental Protection Agency (EPA).

ACTION: Notice.

SUMMARY: In compliance with the Paperwork Reduction Act (PRA) (44 U.S.C. 3501 et seq.), this document announces that EPA is planning to submit a request to for a new Information Collection Request (ICR) to the Office of Management and Budget (OMB). This ICR affects certain unregistered renewable fuel producers, who are not required to register or report under the renewable fuels program (RFS2), to voluntarily submit the same or similar information contained in a production outlook report. These producers are most likely in the planning stages, but expect to begin producing renewable fuels in the next five (5) calendar years. Participation by respondents is strictly voluntary. EPA plans to use the existing production outlook report format for submissions by these parties.

DATES: Comments must be submitted on or before December 13, 2010.

ADDRESSES: Submit your comments, identified by Docket ID No. EPA-HQ-OAR-2005-0161 by one of the following methods:

• http://www.regulations.gov: Follow the on-line instructions for submitting comments.

• E-mail: a-and-r-Docket@epa.gov.

• Mail: Air Docket, Environmental Protection Agency, Mail Code: 6102T, 1200 Pennsylvania Ave., NW., Washington, DC 20460.

• Fax or Hand Delivery: EPA's Public Reading Room is located in Room 3334 of the EPA West Building, 1301 Constitution Ave., NW., Washington, DC. Docket hours are Monday through Friday, 8 a.m. until 4:30 p.m., excluding legal holidays. In order to ensure to arrange for proper fax or hand delivery of materials, please call the Air Docket at 202-566-1742.

Instructions: Direct your comments to Docket ID No. EPA-HQ-OAR-2005-0161. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Anne-Marie Pastorkovich, Office of Transportation and Air Quality, Transportation and Regional Programs Division, Mail Code 6406J, Environmental Protection Agency, 1200 Pennsylvania Ave., NW., Washington, DC 20460; telephone number: (202) 343-9623; fax number: (202) 343-2801; e-mail address: pastorkovich.anne-marie@epa.gov.

SUPPLEMENTARY INFORMATION:

How can I access the docket and/or submit comments?

EPA has established a public docket for this ICR under Docket ID No. EPA-HQ-OAR-2005-0161. The docket is available for online viewing at http://www.regulations.gov, and for in-person viewing at EPA's Public Reading Room. The Public Reading Room is located in the EPA West Building, 1301 Constitution Ave., NW., Room 3334, Washington, DC. The Public Reading Room is open from 8:30 a.m. to 4:30 p.m. Eastern Standard Time (EST) in its new location, Monday through Friday, excluding legal holidays. The telephone number for the Air Docket is 202-566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c) (2) (A) of the Paperwork Reduction Act, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are un-registered renewable fuel producers.

Title: Production Outlook Reports for Unregistered Renewable Fuel Producers.

ICR numbers: EPA ICR No. 2409.01.

ICR status: This is a proposal for a new ICR. The OMB control numbers for EPA's regulations in Title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: With this information collection request (ICR) renewal, we are seeking permission to accept production outlook reports from domestic and foreign renewable fuel producers who are not currently regulated parties under the RFS2 program. The respondents for this ICR are not required to register or report under the RFS2 regulations. Submission of production outlook information to EPA under this ICR will be voluntary.

We believe that many parties would wish to submit this information in order to receive better assistance in understanding and preparing to comply with the RFS2 regulations. A typical respondent would be a renewable fuel producer who is in the process of developing plans for, or constructing, a renewable fuel production facility or that is currently opting out of the RFS2 program under 40 CFR 80.1426(c)(3). Such a respondent would not be required to register or report under RFS2 because it is not yet producing renewable fuel subject to the regulation. However, the respondent would likely wish to provide the information in order to receive feedback from EPA and to aid its planning for future compliance with the RFS2 regulations and annual compliance standards.

Respondents that voluntarily provide the information requested through this ICR will benefit from doing so. The information that respondents provide will allow EPA to more accurately project cellulosic biofuel volumes for the following calendar year, and these volume projections will form the basis of the percentage standards EPA sets under the RFS2 program. Without information from these respondents, EPA's volume projections are more likely to fall below actual projection volumes. Under such circumstances, supply for cellulosic biofuel will exceed demand, and the value of cellulosic biofuel Renewable Identification Numbers (RINs) will fall. RINs are marketable credits that correspond to a given volume of renewable fuel. Since RIN market price directly affects the economic viability of cellulosic biofuel production, low RIN prices could present economic difficulties to producers. Thus, it is in the interests of these respondents to provide this information to EPA, as doing so could ensure that the market price of RINs appropriately reflects the value of their cellulosic biofuel. This information also serves a more general program purpose, because it will assist EPA in setting the annual RFS2 standard more accurately.

We estimate that approximately 35 parties would choose to participate in this voluntary information collection. The format for submitting the production outlook information to EPA would follow the “RFS2 Production Outlook Form, Report Form ID: RFS0900.” Collection of reports from regulated parties is covered under the RFS2 ICR, OMB Control No. 2060-0640 (Expiration Date July 31, 2013). A copy of the RFS0900 form may be viewed at http://www.epa.gov/otaq/regs/fuels/rfs0900.pdf (instructions to form) and http://www.epa.gov/otaq/regs/fuels/rfs0900.xls (form).

We are requesting that the Office of Management and Budget (OMB) approve this ICR and that it be effective three years after approval.

Burden Statement: The annual public reporting and recordkeeping burden for this collection of information is estimated to average 4 hours per respondent and 4 hours per response. Burden means the total time, effort, or financial resources expended by a person to generate, maintain, retain, or disclose or provide information to (or for) a Federal agency. This includes the time needed to review instructions; to develop, acquire, install, and utilize technology and systems for the purposes of collecting, validating, and verifying information; to process and maintain information; to disclose and provide information; to adjust the existing ways to comply with any previously applicable instructions and requirements which have subsequently changed; to train personnel to be able to respond to a collection of information; to search data sources; to complete and review the collection of information; and to transmit or otherwise disclose the information. We anticipate 35 respondents, submitting one response each.

The draft supporting statement, which has been placed in the public docket, contains detailed estimates for this proposed ICR.

Are there changes in the estimates from the last approval?

This is a proposed, new, voluntary information collection. All the estimates provided above, and in the supporting statement (which has been placed in the public docket) are for a new and voluntary collection of information.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the person listed under FOR FURTHER INFORMATION CONTACT.

Dated: October 6, 2010.
Margo Tsirigotis Oge,
Director, Office of Transportation and Air Quality.

[FR Doc. 2010-25894 Filed 10-13-10; 8:45 am]

BILLING CODE 6560-50-P